DEPARTMENT OF TRANSPORTATION

Surface Transportation Board

[Docket No. FD 35562]

Iowa Interstate Railroad, Ltd.—Lease Exemption—Line of Cedar Rapids and Iowa City Railway Company

AGENCY: Surface Transportation Board.

ACTION: Notice of Exemption.

SUMMARY: The Board grants an exemption under 49 U.S.C. 10502 from the prior approval requirements of 49 U.S.C. 10902 for Iowa Interstate Railroad, Ltd. (IAIS), a Class II rail carrier, to lease and operate 8.4 miles of railroad owned by Cedar Rapids & Iowa City Railway Co. (CRANDIC). The rail line, known as the Hills Line, extends from a connection with CRANDIC's Cedar Rapids-Iowa City line at milepost 25.0 near Burlington Street in Iowa City, Iowa to the end of track at milepost 33.4 in Hills, Iowa. The exemption is subject to employee protective conditions.

DATES: The exemption will be effective on February 24, 2012. Petitions to stay must be filed by February 9, 2012. Petitions for reconsideration must be filed by February 21, 2012.

ADDRESSES: An original and 10 copies of all pleadings, referring to Docket No. FD 35562, must be filed with the Surface Transportation Board, 395 E Street SW., Washington, DC 20423-0001. In addition, one copy of each pleading must be served on IAIS's representative: Thomas J. Litwiler, Fletcher & Sippel LLC, 29 North Wacker Drive, Suite 920, Chicago, IL 60606-2832.

FOR FURTHER INFORMATION CONTACT: Joseph H. Dettmar, (202) 245-0395. Assistance for the hearing impaired is available through the Federal Information Relay Service (FIRS) at 1-(800) 877-8339.

SUPPLEMENTARY INFORMATION: Additional information is contained in the Board's decision. Board decisions and notices are available on our Web site at www.stb.dot.gov.

Decided: January 18, 2012.
By the Board, Chairman Elliott, Vice Chairman Mulvey, and Commissioner Begeman.
Jeffrey Herzig,
Clearance Clerk.

[FR Doc. 2012-1542 Filed 1-24-12; 8:45 am]

BILLING CODE 4915-01-P